DEPARTMENT OF COMMERCE

National Oceanic and Atmospheric Administration

RIN 0648-XG053

Notice of Intent To Prepare an Environmental Impact Statement

AGENCY: National Marine Fisheries Service (NMFS), National Oceanic and Atmospheric Administration (NOAA), Commerce.

ACTION: Notice of intent.

SUMMARY: Pursuant to the National Environmental Policy Act (NEPA), this notice announces that NMFS intends to prepare an Environmental Impact Statement (EIS) to inform its decision of whether to determine that a resource management plan (RMP) jointly developed by the Washington Department of Fish and Wildlife (WDFW) and the Puget Sound Tribes (Tribes), collectively the co-managers, meets requirements under Limit 6 of the ESA 4(d) rule for the ESA-listed Puget Sound Chinook salmon Evolutionarily Significant Unit (ESU), which is listed as threatened under the Endangered Species Act (ESA). The purpose of the RMP is to manage commercial, recreational, ceremonial, and subsistence salmon fisheries potentially affecting the Puget Sound Chinook ESU within the marine and freshwater areas of Puget Sound, from the entrance of the Strait of Juan de Fuca inward, including fisheries under the jurisdiction of the Pacific Salmon Commission's Fraser River Panel. In order for NMFS to make a positive determination under Limit 6 on the RMP, NMFS must conclude that the RMP's management framework is consistent with the criteria under Limit 6. Limit 6 applies to RMPs developed jointly by the States of Washington, Oregon and/or Idaho and the Tribes within the continuing jurisdiction of United States v. Washington or United States v. Oregon. NMFS provides this notice to advise other agencies and the public of our plan to analyze effects related to approval and implementation of the RMP and to obtain suggestions and information that may be useful to the scope of issues and alternatives to include in the EIS.

DATES: Written or electronic scoping comments must be received at the appropriate address or email mailbox (see ADDRESSES) on or before June 4, 2018.

ADDRESSES: Written comments should be sent to Barry A. Thom, Regional Administrator, West Coast Region, NMFS, 1201 NE Lloyd Boulevard. Suite 1100, Portland, OR 97232. Comments may also be sent by email to ps2018rmp.wcr@noaa.gov.

FOR FURTHER INFORMATION CONTACT: Emi Kondo, NMFS West Coast Region, telephone: 503-736-4739, email: emi.kondo@noaa.gov.

SUPPLEMENTARY INFORMATION:

Background

The Puget Sound Chinook Salmon ESU was listed as threatened under the ESA in 1999 (64 FR 14308, March 24, 1999). The definition of the ESU has been revised twice to include specific artificial propagation programs (70 FR 37160, June 28, 2005; 79 FR 20802, April 14, 2014). The current description of the ESU includes naturally spawned Chinook salmon originating from rivers flowing into Puget Sound from the Elwha River (inclusive) eastward, including rivers in Hood Canal, South Sound, North Sound, and the Strait of Georgia; also included are Chinook salmon from 26 artificial propagation programs (79 FR 20802, April 14, 2014).

Puget Sound Chinook salmon have a complex life history, migrating from their natal streams throughout Puget Sound to the Pacific Ocean, where they generally spend one to three years before returning to their natal streams, primarily as three- and four-year-old adults. In their ocean migration, they travel north along the west coast into Canadian, and at times as far north as Alaskan, waters. In doing so, they are caught in a broad range of fisheries, which are managed by an array of agencies, bodies, and governments including NMFS, the States of Washington, Oregon, and Alaska, more than 20 Native American tribal jurisdictions, the North Pacific Fisheries Management Council, the Pacific Fisheries Management Council, and the Pacific Salmon Commission.

Section 4(d) of the ESA (16 U.S.C. 1531(d)) requires the Secretary of Commerce (Secretary) to adopt such regulations that are deemed necessary and advisable for the conservation of species listed as threatened. Such protective regulations may include any or all of the prohibitions that apply automatically to protect endangered species under ESA section 9(a)(1). Those section 9(a)(1) prohibitions, in part, make it illegal for any person subject to the jurisdiction of the United States to take (including harass, harm, pursue, hunt, shoot, wound, kill, trap, capture, or collect; or to attempt any of these) the relevant listed species. In 2000, NMFS published a rule, under section 4(d), that specified take prohibitions for several ESA-listed salmon ESUs, including Puget Sound Chinook salmon (65 FR 42422, July 10, 2000). NMFS did not find it necessary and advisable to apply the take prohibitions described in section 9(a)(1)(B) and 9(a)(1)(C) to specified categories of activities that contribute to conserving listed salmonids or are governed by a program that adequately limits impacts on listed salmonids; therefore, the 4(d) rule included 13 limits on the application of the ESA section 9(a)(1) take prohibitions. Limit 6 of the 4(d) rule applies to activities in compliance with joint tribal/state plans (e.g., RMPs) developed within the continuing jurisdiction of United States v. Washington or United States v. Oregon. The co-managers developed an RMP that NMFS determined was consistent with Limit 6 and was implemented from 2011 to 2014. Since the expiration of that RMP after 2014 fisheries, the fishery has since been managed on a year-to-year basis. The co-managers are currently developing an updated RMP, the Comprehensive Management Plan for Puget Sound Chinook: Harvest Management Component, to guide conservation and harvest of Puget Sound Chinook salmon in Washington for 10 years.

Once the co-managers have submitted the RMP for NMFS' approval, NMFS must make a determination under Limit 6 of the 4(d) rule whether the co-managers' RMP meets the criteria of the 4(d) rule and whether it does or does not appreciably reduce the likelihood of survival and recovery of Puget Sound Chinook Salmon ESU (50 CFR 223.203(b)(6)(i)). This determination is a Federal action that requires review under NEPA.

Environmental Impact Statement

NEPA (42 U.S.C. 4321 et seq.) requires that Federal agencies conduct an environmental analysis of their proposed actions to determine if the actions may significantly affect the human environment. NMFS has determined that an EIS should be prepared under NEPA for the purpose of informing our determination under Limit 6 of the 4(d) rule. We will prepare an EIS in accordance with NEPA requirements, as amended (42 U.S.C. 4321 et seq.); NEPA implementing regulations (40 CFR 1500-1508); and other Federal laws, regulations, and policies.

The Proposed Action for analysis in the Final Environmental Impact Statement is NMFS's approval of a Puget Sound Chinook Harvest Resource Management Plan which NMFS determines would adequately address the criteria established for Limit 6 of the ESA 4(d) rule for the ESA-listed Puget Sound Chinook Salmon ESU. NMFS' purpose for the proposed action is to respond to the co-manager's request for an exemption from the take prohibitions of section 9 of the ESA for commercial, recreational, and tribal salmon harvest programs included in an RMP for approval under Limit 6 of the ESA 4(d) rule for the ESA-listed Puget Sound Chinook Salmon Evolutionarily Significant Unit (ESU). NMFS' need for the proposed action is two-fold: To ensure the sustainability and recovery of Puget Sound Chinook salmon; and to facilitate, as appropriate, tribal treaty and non-tribal fishing opportunities as described under the RMP, consistent with tribal treaty rights and court rulings in United States v. Washington.

Development of Initial Alternatives

NMFS has preliminarily identified the following three alternatives for the public to consider.

Mixed Escapement and Exploitation Rate Alternative (Proposed Action): Make a 4(d) determination on an RMP that utilizes a mixture of management-unit-specific escapement thresholds and exploitation rate ceilings.

Fixed Management Unit Escapement Goal Alternative: Make a 4(d) determination on an RMP that sets fixed escapement goals for Puget Sound Chinook management units.

No-action Alternative (No-fishing Alternative): Under this alternative, NMFS would not make a determination on the RMP; therefore, there would be no authorized take of Puget Sound Chinook salmon in Puget Sound salmon fisheries through the 4(d) rule. Although this alternative would not meet the purpose and need of the proposed action, a No-action Alternative is required in our NEPA analysis.

Request for Comments

NMFS requests data, comments, pertinent information, or suggestions from the public, other concerned governmental agencies, the scientific community, tribes, the business community, or any other interested party regarding the proposed action discussed in this notice. We will consider all comments we receive that are relevant to the proposed action and relevant to complying with the requirements of NEPA. We particularly seek specific comments concerning:

(1) The direct, indirect, and cumulative effects that implementation of any reasonable alternative could have on endangered and threatened species, and other non-ESA-listed species and their habitats;

(2) Other reasonable alternatives (in addition to the initial alternatives presented in this notice), and their associated effects. NMFS is particularly interested in alternatives that include ecosystem considerations, including the conservation and harvest of Puget Sound Chinook salmon, recovery of the ESA-listed Southern Resident killer whales, and needs of other wildlife;

(3) Measures that would minimize and mitigate potentially adverse effects of the proposed action; and

(4) Other plans or projects that might be relevant to this project.

The EIS will analyze the effects that the various alternatives would have on salmon and fish species in Puget Sound, as well as the other aspects of the human environment. These aspects may include other fish, habitat, marine nutrient transport, seabirds, marine mammals, marine invertebrates, ESA-listed species, vegetation, socioeconomics, environmental justice, cultural resources, and the cumulative impacts of the alternatives.

Authority: 42 U.S.C. 4321 et seq.; 40 CFR 1500-1508; and Companion Manual for NOAA Administrative Order 216-6A, 82 FR 4306.

Dated: April 26, 2018.
Angela Somma,
Chief, Endangered Species Division, National Marine Fisheries Service.

[FR Doc. 2018-09337 Filed 5-2-18; 8:45 am]

BILLING CODE 3510-22-P